DEPARTMENT OF LABOR

Employment and Training Administration

[TA-W-80,291]

RR Donnelley & Sons, Inc., Premedia Services Division, Including On-Site Leased Workers From Kelly Services Seattle, WA; Notice of Affirmative Determination Regarding Application for Reconsideration

By application dated December 14, 2011, a State Workforce Official requested administrative reconsideration of the negative determination regarding workers' eligibility to apply for Trade Adjustment Assistance (TAA) applicable to workers and former workers of RR Donnelley & Sons, Inc., Premedia Services Division, Seattle, Washington (subject firm). The determination was issued on November 17, 2011. The Department's Notice of determination was published in the Federal Register on December 6, 2011 (76 FR 76186). The workers were engaged in activities related to the production of digital photography, printed proofs and digital files.

The initial investigation resulted in a negative determination based on the findings that the subject firm did not import digital photography, printed proofs and digital files (or like or directly competitive articles) in 2009, 2010, or January through June 2011. Surveys of the subject firm's major declining customers revealed no imports of digital photography, printed proofs and digital files (or like or directly competitive articles) during the relevant period.

The investigation also revealed that a shift in production by the subject firm did not contribute importantly to the separations at the subject firm, and that the subject firm is neither a Supplier nor a Downstream Producer to a firm that employed a group of workers who received a certification of eligibility under Section 222(a) of the Act, 19 U.S.C. 2272(a).

In the request for reconsideration, the petitioner supplied new information regarding a possible shift to/acquisition from a foreign country by the subject firm in the production of articles like or directly competitive with the digital photography, printed proofs and digital files produced by the subject workers.

The Department of Labor has carefully reviewed the request for reconsideration and the existing record, and has determined that the Department will conduct further investigation to determine if the petitioning worker group at the subject firm meet the eligibility requirements of the Trade Act of 1974.

Conclusion

After careful review of the application, I conclude that the claim is of sufficient weight to justify reconsideration of the U.S. Department of Labor's prior decision. The application is, therefore, granted.

Signed at Washington, DC, this 27th day of January 2012.
Del Min Amy Chen
Certifying Officer, Office of Trade Adjustment Assistance.

[FR Doc. 2012-2889 Filed 2-7-12; 8:45 am]

BILLING CODE 4510-FN-P